DEPARTMENT OF STATE

[Public Notice 6972]

Shipping Coordinating Committee; Notice of Committee Meeting

The Shipping Coordinating Committee (SHC) will conduct two open meetings, one for the International Maritime Organization's Design and Equipment Sub-Committee (DE) and one for the International Maritime Organization's Marine Environment Protection Committee (MEPC).

The first open meeting will be held at 9:30 a.m. on Thursday, January 19, 2012, in Room 6103 of the United States Coast Guard Headquarters Building, 2100 2nd Street SW., Washington, DC 20593-7126. The primary purpose of the meeting is to prepare for the fifty-sixth session of the International Maritime Organization's Sub-Committee on Ship Design and Equipment (DE 56) to be held at the International Maritime Organization in London, United Kingdom from February 13th to February 17th, 2012.

The primary matters to be considered include:

—Adoption of the agenda;

—Decisions of other IMO Bodies;

—Performance standards for recovery systems for all types of ships;

—Development of amendments to SOLAS regulation II-1/40.2 concerning general requirements on electrical installations;

—Making the provisions of MSC.1/Circ.1206/Rev.1 mandatory;

—Development of new framework of requirements for life-saving appliances;

—Development of safety objectives and functional requirements of the Guidelines on alternative design and arrangements for SOLAS chapters II-1 and III;

—Development of amendments to the LSA Code for thermal performance of immersion suits;

—Development of amendments to the LSA Code for free-fall lifeboats with float free Capabilities;

—Development of a mandatory Code for ships operating in polar waters;

—Protection against noise on board ships;

—Provisions for the reduction of noise from commercial shipping and its adverse impacts on marine life;

—Classification of offshore industry vessels and consideration of the need for a Code for offshore construction support vessels;

—Consideration of IACS unified interpretations and amendments to the ESP Code;

—Development of guidelines for use of fiber reinforced plastic (FRP) within ship structures;

—Revision of testing requirements for lifejacket RTDs in resolution MSC.81(70);

—Amendments to SOLAS regulation II-1/11 and development of associated guidelines to ensure the adequacy of testing arrangements for watertight compartments;

—Revision of the Recommendation on conditions for the approval of servicing stations for inflatable liferafts (resolution A.761(18));

—Development of guidelines for wing-in-ground craft;

—Revision of the Revised guidelines on implementation of effluent standards and performance tests for sewage treatment plants (resolution MEPC.159(55));

—Biennial agenda and provisional agenda for DE 57;

—Election of Chairman and Vice-Chairman for 2013;

—Any other business;

—Revision of the Standard specification for shipboard incinerators (resolution MEPC.76(40));

—Provisions for the reduction of noise from commercial shipping and its adverse impacts on marine life;

—Report to the Maritime Safety Committee.

Members of the public may attend this meeting up to the seating capacity of the room. To facilitate the building security process, and to request reasonable accommodation, those who plan to attend should contact the meeting coordinator, Mr. Wayne Lundy, by email at Wayne.M.Lundy@uscg.mil, by phone at (202) 372-1379, by fax at (202) 372-1925, or in writing at Mr. Wayne Lundy, Commandant (CG-5213), U.S. Coast Guard Headquarters, 2100 2nd Street SW STOP 7126, Room 1300, Washington, DC 20593-7126 not later than January 12, 2012, 7 days prior to the meeting. Requests made after January 12, 2012 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo. Hard copies of documents associated with the 56th session of DE will be available at this meeting. To request further copies of documents please contact Mr. Wayne Lundy using the contact information above.

The second open meeting will be held at 9:30 a.m. on Wednesday, February 8, 2012, in Room 4202 of the United States Coast Guard Headquarters Building, 2100 Second Street SW., Washington, DC, 20593-7126. The primary purpose of the meeting is to prepare for the sixty-third session of the International Maritime Organization's Marine Environment Protection Committee (MEPC 63) to be held at the International Maritime Organization in London, United Kingdom from February 27th to March 2nd, 2012.

The primary matters to be considered include:

—Adoption of the Agenda;

—Harmful aquatic organisms in ballast water;

—Recycling of ships;

—Air pollution and energy efficiency;

—Reduction of GHG emissions from ships;

—Consideration and adoption of amendments to mandatory instruments;

—Interpretation of, and amendments to, MARPOL and related instruments;

—Implementation of the OPRC Convention and the OPRC-HNS Protocol and relevant Conference resolutions;

—Identification and protection of Special Areas and Particularly Sensitive Sea Areas;

—Inadequacy of reception facilities;

—Reports of sub-committees;

—Work of other bodies;

—Status of Conventions;

—Harmful anti-fouling systems for ships;

—Promotion of implementation and enforcement of MARPOL and related instruments;

—Technical Co-Operations sub-program for the Protection of the Marine Environment;

—Role of the human element;

—Noise from commercial shipping and its adverse impacts on marine life;

—Work program of the Committee and subsidiary bodies;

—Application of the Committees' Guidelines;

—Election of Chairman and Vice-Chairman for 2012;

—Any other business;

—Consideration of the report of the Committee.

Members of the public may attend this meeting up to the seating capacity of the room. To facilitate the building security process, and to request reasonable accommodation, those who plan to attend should contact the meeting coordinator, Ms. Regina Bergner, by email at Regina.R.Bergner@uscg.mil, by phone at (202) 372-1431, or in writing at Ms. Regina Bergner, Commandant (CG-5224), U.S. Coast Guard Headquarters, 2100 2nd Street SW STOP 7126, Room 1601, Washington, DC 20593-7126 not later than January 29, 2012, 10 days prior to the meeting. Requests made after January 29, 2012 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo. Hard copies of documents associated with the 63rd Session of MEPC will be available at this meeting. To request further copies of documents please contact Ms. Regina Bergner using the contact information above.

Dated: December 22, 2011.
Brian W. Robinson,
Executive Secretary, Shipping Coordinating Committee.

[FR Doc. 2011-33499 Filed 12-28-11; 8:45 am]

BILLING CODE 4710-09-P